DEPARTMENT OF COMMERCE

International Trade Administration

[A-588-857]

Antidumping Duty Order: Welded Large Diameter Line Pipe From Japan

AGENCY: Import Administration, International Trade Administration, Department of Commerce.

ACTION: Notice of antidumping duty order.

EFFECTIVE DATE: December 6, 2001.

FOR FURTHER INFORMATION CONTACT: John Drury or Helen Kramer at (202) 482-0195 and (202) 482-0405, respectively; AD/CVD, Enforcement, Office 8, Group III, Import Administration, Room 7866, International Trade Administration, U.S. Department of Commerce, 14th Street and Constitution Avenue, NW, Washington, DC 20230.

The Applicable Statute

Unless otherwise indicated, all citations to the statute are references to the provisions effective January 1, 1995, the effective date of the amendments made to the Tariff Act of 1930 (“the Act”) by the Uruguay Round Agreements Act. In addition, unless otherwise indicated, all citations to the Department's regulations are to the regulations at 19 CFR part 351 (April 2001).

Scope of Investigation

The product covered by this investigation is certain welded carbon and alloy line pipe, of circular cross section and with an outside diameter greater than 16 inches, but less than 64 inches, in diameter, whether or not stencilled. This product is normally produced according to American Petroleum Institute (API) specifications, including Grades A25, A, B, and X grades ranging from X42 to X80, but can also be produced to other specifications. The product currently is classified under U.S. Harmonized Tariff Schedule (HTSUS) item numbers 7305.11.10.30, 7305.11.10.60, 7305.11.50.00, 7305.12.10.30, 7305.12.10.60, 7305.12.50.00, 7305.19.10.30. 7305.19.10.60, and 7305.19.50.00. Although the HTSUS item numbers are provided for convenience and customs purposes, the written description of the scope is dispositive. Specifically not included within the scope of this investigation is American Water Works Association (AWWA) specification water and sewage pipe and the following size/grade combinations; of line pipe:

• Having an outside diameter greater than or equal to 18 inches and less than or equal to 22 inches, with a wall thickness measuring 0.750 inch or greater, regardless of grade.

• Having an outside diameter greater than or equal to 24 inches and less than 30 inches, with wall thickness measuring greater than 0.875 inches in grades A, B, and X42, with wall thickness measuring greater than 0.750 inches in grades X52 through X56, and with wall thickness measuring greater than 0.688 inches in grades X60 or greater.

• Having an outside diameter greater than or equal to 30 inches and less than 36 inches, with wall thickness measuring greater than 1.250 inches in grades A, B, and X42, with wall thickness measuring greater than 1.000 inches in grades X52 through X56, and with wall thickness measuring greater than 0.875 inches in grades X60 or greater.

• Having an outside diameter greater than or equal to 36 inches and less than 42 inches, with wall thickness measuring greater than 1.375 inches in grades A, B, and X42, with wall thickness measuring greater than 1.250 inches in grades X52 through X56, and with wall thickness measuring greater than 1.125 inches in grades X60 or greater.

• Having an outside diameter greater than or equal to 42 inches and less than 64 inches, with a wall thickness measuring greater than 1.500 inches in grades A, B, and X42, with wall thickness measuring greater than 1.375 inches in grades X52 through X56, and with wall thickness measuring greater than 1.250 inches in grades X60 or greater.

• Having an outside diameter equal to 48 inches, with a wall thickness measuring 1.0 inch or greater, in grades X-80 or greater.

Antidumping Duty Order

In accordance with section 735(a) of the Act, the Department made its final determination that welded large diameter line pipe from Japan is being sold at less than fair value. See Notice of Final Determination of Sales at Less Than Fair Value: Welded Large Diameter Line Pipe from Japan, 66 FR 47172 (September 11, 2001).

On October 25, 2001, in accordance with section 735(d) of the Act, the U.S. International Trade Commission (“ITC”) notified the Department that a U.S. industry is “materially injured,” within the meaning of section 735(b)(1)(A)(i) of the Act, by reason of less-than-fair-value imports of welded large diameter line pipe from Japan.

Therefore, in accordance with section 736(a)(1) of the Act, the Department will direct U.S. Customs to assess, upon further advice by the Department, antidumping duties equal to the amount by which the normal value of the merchandise exceeds the export price of the merchandise for all relevant entries of welded large diameter line pipe from Japan. These antidumping duties will be assessed on all imports of the subject merchandise that are entered, or withdrawn from warehouse, for consumption on or after June 27, 2001, the date of publication of the preliminary determination in the Federal Register (see Notice of Preliminary Determination of Sales at Less Than Fair Value: Welded Large Diameter Line Pipe From Japan, 66 FR 34151). On or after the date of publication of this notice in the Federal Register, Customs officers must require, at the same time as importers normally would deposit estimated duties, cash deposits based on the rates listed below. The “All Others” rate applies to all exporters of subject merchandise not specifically listed. The weighted-average dumping margins are as follows:

Manufacturer/Exporter | Margin (percent)
Nippon Steel Corporation (Nippon) | 30.80
Kawasaki Steel Corporation (Kawasaki) | 30.80
All Others | 30.80

This notice constitutes the antidumping duty order with respect to welded large diameter line pipe from Japan. Interested parties may contact the Department's Central Records Unit, Room B-099 of the main Commerce building, for copies of an updated list of antidumping duty orders currently in effect.

This order is published in accordance with section 736(a) of the Act.

Dated: November 30, 2001.
Richard W. Moreland,
Acting Assistant Secretary for Import Administration.

[FR Doc. 01-30288 Filed 12-5-01; 8:45 am]

BILLING CODE 3510-DS-P